DEPARTMENT OF COMMERCE

National Oceanic and Atmospheric Administration

RIN 0648-XA122

Marine Mammals; File No. 14330

AGENCY: National Marine Fisheries Service (NMFS), National Oceanic and Atmospheric Administration (NOAA), Commerce.

ACTION: Notice; receipt of application for permit amendment.

SUMMARY: Notice is hereby given that the Aleut Community of St. Paul Island, Tribal Government, Ecosystem Conservation Office, St. Paul Island, AK, has applied for an amendment to Scientific Research Permit No. 14330.

DATES: Written, telefaxed, or e-mail comments must be received on or before February 3, 2011.

ADDRESSES: The application and related documents are available for review by selecting “Records Open for Public Comment” from the Features box on the Applications and Permits for Protected Species home page, https://apps.nmfs.noaa.gov, and then selecting File No. 14330 from the list of available applications.

These documents are also available upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Amy Sloan, (301) 713-2289.

SUPPLEMENTARY INFORMATION: The subject amendment to Permit No. 14330 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 14330, issued on August 17, 2009 (74 FR 44822), authorizes the permit holder to conduct activities to fulfill their Biosampling, Disentanglement, and Island Sentinel program responsibilities as established under the co-management agreement between NMFS and the Aleut Communities. The permit authorizes incidental disturbance of northern fur seals (Callorhinus ursinus) on St. Paul Island, Alaska, during (1) disentanglement events, (2) the collection of biological samples from dead stranded and subsistence hunted marine mammals, and (3) haulout and rookery observations, monitoring, and remote camera maintenance. Samples may be exported to researchers studying the decline of northern fur seals. Steller sea lions (Eumetopias jubatus) and harbor seals (Phoca vitulina) may be disturbed during the course of these activities. The permit also authorizes research-related mortality of northern fur seals.

The permit holder is requesting the permit be amended to include authorization for harassment of additional Steller sea lions and harbor seals on St. Paul, St. George, Otter, and Walrus Islands, and Sea Lion Rock, all of the Pribilof Island group in the Bering Sea. The request is to annually harass the following during collection of scat samples to be used for characterizing the diet of marine mammals in the region: 100 adult female Steller sea lions, 500 adult male Steller sea lions, 1400 juvenile male Steller sea lions, 100 male and female Steller sea lion pups, 100 adult female harbor seals, 100 adult male harbor seals, 100 male and female juvenile harbor seals, and 100 male and female harbor seal pups. The amendment would be valid for the duration of the permit, which expires on August 31, 2014.

In compliance with the National Environmental Policy Act of 1969 (42 U.S.C. 4321 et seq.), an initial determination has been made that the activities proposed are consistent with the Preferred Alternative in the Final Programmatic Environmental Impact Statement (PEIS) for Steller Sea Lion and Northern Fur Seal Research (NMFS 2007), and that issuance of the permit amendment would not have a significant adverse impact on the human environment.

As established under the Preferred Alternative, NMFS proposes to authorize annual cumulative research-related mortality (under this permit in combination with any others for research on Steller sea lions) of up to 15 percent of the Potential Biological Removal levels for each stock. These annual allowances would include observed and unobserved mortalities, and be calculated based on the nature of the research. The numbers of research-related mortalities permitted for this amendment may be higher or lower than those requested by the applicant, based on NMFS calculations using the methods outlined in the PEIS.

Concurrent with the publication of this notice in the Federal Register, NMFS is forwarding copies of this application to the Marine Mammal Commission and its Committee of Scientific Advisors.

Dated: December 28, 2010.
P. Michael Payne,
Chief, Permits, Conservation and Education Division, Office of Protected Resources, National Marine Fisheries Service.

[FR Doc. 2010-33225 Filed 1-3-11; 8:45 am]

BILLING CODE 3510-22-P